INTERNATIONAL TRADE COMMISSION

[Investigation No. 731-TA-747 (Final)]

Fresh Tomatoes From Mexico

AGENCY: United States International Trade Commission.

ACTION: Suspension of antidumping investigation.

SUMMARY: Effective January 22, 2008, the Department of Commerce (“Commerce”) suspended its antidumping investigation on fresh tomatoes from Mexico (73 FR 4831, January 28, 2008). The basis for the suspension is an agreement between Commerce and producers/exporters that account for substantially all imports of this product from Mexico, wherein each signatory producer/exporter agreed to revise its prices to eliminate completely the injurious effects of exports of this merchandise to the United States. Accordingly, the U.S. International Trade Commission (“Commission”) gives notice of the suspension of its antidumping investigation involving imports of fresh tomatoes from Mexico.

EFFECTIVE DATE: January 22, 2008.

FOR FURTHER INFORMATION CONTACT: Mary Messer (202-205-3193), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On November 1, 2007, a second five-year review on fresh tomatoes from Mexico was instituted to determine whether termination of the suspended investigation on fresh tomatoes from Mexico would be likely to lead to continuation or recurrence of material injury (72 FR 61903, November 1, 2007). On November 26, 2007, Mexican tomato growers/exporters accounting for a significant percentage of all fresh tomatoes imported into the United States from Mexico provided written notice to Commerce of their withdrawal from the agreement suspending the antidumping investigation on fresh tomatoes from Mexico. Effective January 18, 2008, the Department of Commerce terminated the suspension agreement, terminated the five-year review of the suspended investigation, and resumed the antidumping investigation on fresh tomatoes from Mexico because the suspension agreement no longer covered substantially all imports of fresh tomatoes from Mexico (73 FR 2887, January 16, 2008). Accordingly, effective January 18, 2008, the U.S. International Trade Commission terminated its review and resumed its antidumping investigation involving imports of fresh tomatoes from Mexico (73 FR 5869, January 31, 2008).

Authority: This investigation is being suspended under authority of title VII of the Tariff Act of 1930; this notice is published pursuant to section 207.40 of the Commission's rules (19 CFR 207.40).

By order of the Commission.
Issued: February 5, 2008.
Marilyn R. Abbott,
Secretary to the Commission.

[FR Doc. E8-2439 Filed 2-8-08; 8:45 am]

BILLING CODE 7020-02-P